DEPARTMENT OF COMMERCE

Economics and Statistics Administration

Commerce Data Advisory Council; Public Meeting

AGENCY: Economic and Statistics Administration, Commerce.

ACTION: Notice of public meeting.

SUMMARY: The Economic and Statistics Administration (ESA) is giving notice of the third meeting of the Commerce Data Advisory Council (CDAC). The CDAC will discuss environmental data, workforce capabilities to improve data operations, data protection, and other Council matters. The CDAC will meet in a plenary session on October 29-30, 2015. Last-minute changes to the schedule are possible, which could prevent giving advance public notice of schedule adjustments.

DATES: October 29-30, 2015. On October 29th, the meeting will begin at approximately 9 a.m. and end at approximately 5 p.m. (MT). On October 30th, the meeting will begin at approximately 9 a.m. and end at approximately 1 p.m. (MT).

ADDRESSES: The meeting will be held at National Oceanic and Atmospheric Administration's David Skaggs Research Center, 325 Broadway, Boulder, CO 80305.

The meeting is open to the public (See “ENTRY REQUIRMENTS”). Members of the public are welcome to observe the business of the meeting in person or via webcast on the CDAC Web site linked to http://www.esa.gov. A public comment session is scheduled on Friday, October 30, 2015. The public may submit statements or questions in person or via the CDAC Twitter handle: #CDACMTG. If you plan to make oral statements regarding any of the items on the agenda, you must may sign-up on site prior to the Public Comment session. However, individuals with extensive questions or statements must submit them in writing to: DataAdvisoryCouncil@doc.gov (subject line “OCTOBER 2015 CDAC Meeting Public Comment”), or by letter to the Director of External Communication and DFO, CDAC, Department of Commerce, Economics and Statistics Administration, 1401 Constitution Ave. NW., Washington, DC 20230. Such submissions will be included in the record for the meeting if received by Tuesday, October 20, 2015.

Entry Requirements: If you plan to attend the meeting in person, you must complete registration no later than Tuesday, October 20, 2015. To register, please send an email to DataAdvisoryCouncil@doc.gov with the following information:

1. First and Last name;

2. Organization (if applicable);

3. Email address;

4. State of ID (if applicable),

5. Indicate if you are a U.S. Citizen or a Foreign National; and

6. If you are a not a citizen, please indicate your country of citizenship.

On-Site Security Requirements: Due to the required security screening upon entry, individuals attending should arrive early to allow for the extra time to clear the security process. Each visitor to the David Skaggs Research Center is required to sign in and receive a visitor badge from the Visitors Center. Each person attending the meeting is required to present a government photo identification, such as a passport, driver's license, or government identification. U.S. citizens must present a U.S. photo ID, such as a current state driver's license. Foreign Nationals must present a valid passport or a permanent resident ID (“green card”). All IDs must be originals only—no photocopies accepted. Foreign nationals participating in the public meeting are subject to advance security screening procedures.

Forms of ID: Department of Homeland Security has determined that regular driver's licenses (and ID cards) from the following jurisdictions are not acceptable for entry into the facilities: American Samoa, Arizona, Louisiana, Maine, Minnesota, and New York. Driver's licenses from these states or territory will not be accepted for building entry.

Alternatively, forms of acceptable ID are:

—Enhanced IDs from New York;

—U.S. Passport or Passport card;

—DOD CAC card;

—Federal Agency HSPD-12 IDs;

—Veterans ID;

—Military ID;

—Military Dependents ID;

—Trusted Traveler card—Global Entry, SENTRI, or NEXUS; and

—Transportation Workers Identification Credential (TWIC).

Please visit the “Security Procedure for Visitors” on the Boulder Labs Web site http://www.boulder.noaa.gov/?q=node/3 for the complete list of entry requirements for the David Skaggs Research Center.

The meeting is physically accessible to persons with disabilities. Requests for sign language interpretation or other auxiliary aids should be directed to the Director of External Communication as soon as possible, preferably two weeks prior to the meeting.

Seating is available to the public on a first-come, first-served basis.

FOR FURTHER INFORMATION CONTACT: Burton Reist, BReist@doc.gov Director of External Communication and DFO, CDAC, Department of Commerce, Economics and Statistics Administration, 1401 Constitution Ave. NW., Washington, DC 20230, telephone (202) 482-3331.

SUPPLEMENTARY INFORMATION: The CDAC is comprised of 19 members, the Commerce Chief Data Officer, and the Economic and Statistics Administration. The Council provides an organized and continuing channel of communication between recognized experts in the data industry (collection, compilation, analysis, dissemination and privacy protection) and the Department of Commerce. The CDAC provides advice and recommendations, to include process and infrastructure improvements, to the Secretary, DOC and the DOC data-bureau leadership on ways to make Commerce data easier to find, access, use, combine and disseminate. The aim of this advice shall be to maximize the value of Commerce data to all users including governments, businesses, communities, academia, and individuals.

The Committee is established in accordance with the Federal Advisory Committee Act (Title 5, United States Code, Appendix 2, Section 10(a)(b)).

Dated: September 19, 2015.
Austin Durrer,
Chief of Staff for Under Secretary for Economic Affairs, Economics and Statistics Administration.

[FR Doc. 2015-24334 Filed 9-23-15; 8:45 am]

BILLING CODE P